DEPARTMENT OF THE INTERIOR

National Park Service

[N6872; NPS-WASO-NAGPRA-NPS0041862; PPWOCRADN0-PCU00RP14.R50000]

Notice of Inventory Completion: Arizona State University, School of Human Evolution and Social Change, Tempe, AZ

AGENCY: National Park Service, Interior.

ACTION: Notice.

SUMMARY: In accordance with the Native American Graves Protection and Repatriation Act (NAGPRA), the Arizona State University, Center for Archaeology and Society Repository (CASR) acting in place of the Arizona State University, School of Human Evolution and Social Change (ASU SHESC) has completed an inventory of human remains and associated funerary objects and has determined that there is a cultural affiliation between the human remains and associated funerary objects and Indian Tribes or Native Hawaiian organizations in this notice.

DATES: Repatriation of the human remains and associated funerary objects in this notice may occur on or after February 17, 2026.

ADDRESSES: Send written requests for repatriation of the human remains and associated funerary objects in this notice to Allisen Dahlstedt, Arizona State University, School of Human Evolution and Social Change, P.O. Box 872402, Tempe, AZ 85287-2402, email Allisen.Dahlstedt@asu.edu and Christopher Caseldine, Arizona State University, School of Human Evolution and Social Change, P.O. Box 872402, Tempe, AZ 85287-2402, email Christopher.Caseldine@asu.edu.

SUPPLEMENTARY INFORMATION: This notice is published as part of the National Park Service's administrative responsibilities under NAGPRA. The determinations in this notice are the sole responsibility of the ASU CASR, and additional information on the determinations in this notice, including the results of consultation, can be found in its inventory or related records. The National Park Service is not responsible for the determinations in this notice.

Abstract of Information Available

Human remains representing, at least, 31 individuals have been identified. The human remains were removed from the Cashion site in Maricopa County, AZ, during the course of four separate archaeological undertakings associated with ASU, over a total span of 33 years. Archaeological evidence suggests that the Cashion site was occupied from the Hohokam Pioneer through the Classic Periods (approximately A.D. 500 to 1450), with different areas of the site occupied at different times.

From July to September 1966, at least seven individuals were removed from an unknown location within the Cashion site, during an unofficial project carried out by ASU students. Very few details about the project are available. The 19 associated funerary objects are eight lots of shell materials, three lots of faunal fragments, two lot of ceramics, one lot of chipped stone, two lots of raw stone, two lots of daub, and one lot of historic materials.

On January 22 and 23rd, 1975, ASU Department of Anthropology faculty Dr. Charles Merbs and a team of ASU osteology students removed two burials disturbed by the landowner while digging to plant a tree, in the southwest portion of the Cashion site. The two individuals and several cultural objects were removed and brought to ASU. The 15 associated funerary objects are three pollen samples, one lot of bone tools, one vessel, one lot of ceramic sherds, two lots of chipped stone, four lots of ground stone, one lot of raw stone, and two lots of shell.

Between July and November 1977, at least six individuals were removed from the west-central portion of the site during research conducted by an ASU graduate student. The 13 associated funerary objects are six lots of ceramic sherds, five lots of chipped stone, one lot of ground stone, and one lot of raw stone.

Over four semesters from Fall 1997 through Spring of 1999, at least 16 individuals were removed from the Cashion Site during multiple phases of a field school overseen by Dr. Glen Rice of ASU's Department of Anthropology. The 31 associated funerary objects are 19 lots of faunal bone, two lots of chipped stone, three lots of raw stone, five lots of shell, and two lots of historic materials.

Cultural Affiliation

Based on the information available and the results of consultation, cultural affiliation is clearly identified by the information available about the human remains and associated funerary objects described in this notice.

Determinations

The ASU, SHESC, CASR, Tempe, AZ, has determined that:

• The human remains described in this notice represent the physical remains of 31 individuals of Native American ancestry.

• The 78 objects described in this notice are reasonably believed to have been placed intentionally with or near individual human remains at the time of death or later as part of the death rite or ceremony.

• There is a connection between the human remains and associated funerary objects described in this notice and the Ak-Chin Indian Community; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects in this notice to a requestor may occur on or after February 17, 2026. If competing requests for repatriation are received, the ASU CASR must determine the most appropriate requestor prior to repatriation. Requests for joint repatriation of the human remains and associated funerary objects are considered a single request and not competing requests. The ASU CASR is responsible for sending a copy of this notice to the Indian Tribes and Native Hawaiian organizations identified in this notice and any other consulting parties.

Authority: Native American Graves Protection and Repatriation Act, 25 U.S.C. 3003, and the implementing regulations, 43 CFR 10.10.

Dated: January 9, 2026.
Melanie O'Brien,
Manager, National NAGPRA Program.

[FR Doc. 2026-00863 Filed 1-15-26; 8:45 am]

BILLING CODE 4312-52-P